ENVIRONMENTAL PROTECTION AGENCY

40 CFR Parts 180, 185, and 186

[OPP-300756; FRL-6043-1]

RIN 2070-AB78

Consolidation of Certain Food and Feed Additive Tolerance Regulations

AGENCY: Environmental Protection Agency (EPA).

ACTION: Final rule.

SUMMARY: This final rule transfers certain of the pesticide food and feed additive regulations that are now in 40 CFR parts 185 and 186 to part 180. EPA is consolidating these regulations because as a matter of law all of pesticide tolerances are now considered to be regulated under section 408 of the Federal Food, Drug, and Cosmetic Act as amended by the Food Quality Protection Act (Pub. L. 104-17) and they no longer need to be separate. EPA is also amending 40 CFR 180.1 by adding a definition for the term “food commodity.”

EFFECTIVE DATE: This final rule is effective on May 24, 2000.

FOR FURTHER INFORMATION CONTACT: By mail, Hoyt Jamerson, Registration Division (7505C), Office of Pesticide Programs, Environmental Protection Agency, 1200 Pennsylvania Ave., NW., Washington, DC 20460. Office location, telephone number, and e-mail: Crystal Mall #2, 1921 Jefferson Davis Hwy., Arlington, VA 22202, (703) 308-9368; e-mail: jamerson.hoyt@epamail.epa.gov.

SUPPLEMENTARY INFORMATION:

I. General Information

A. Does this Action Apply to Me?

You may be potentially affected by this action if you are an agricultural producer, food manufacturer, or pesticide manufacturer. Potentially affected categories and entities may include, but are not limited to:

Categories | NAICS codes | Examples of potentially affected entities
Industry | 111 | Crop production
| 112 | Animal production
| 311 | Food manufacturing
| 32532 | Pesticide manufacturing

This listing is not intended to be exhaustive, but rather provides a guide for readers regarding entities likely to be affected by this action. Other types of entities not listed in this table could also be affected. The North American Industrial Classification System (NAICS) codes are provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register-Environmental Documents.” You can also go directly to the Federal Register listings at http://www.epa.gov/fedrgstr/.

2. In person. The Agency has established an official record for this action under docket control number OPP-300756. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. “Good Cause” Finding

Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because this rule contains technical, non-substantive amendments to 40 CFR. This rule transfers certain pesticide tolerances currently in 40 CFR parts 185 and 186 to 40 CFR part 180. There are no changes to the tolerances or to the commodities to which they apply. In addition, there are no reassessments of the adequacy of the tolerances under the Federal Food, Drug, and Cosmetic Act's (FFDCA) standards for safety. Thus, notice and public procedure are unnecessary. EPA finds that this constitutes good cause under 5 U.S.C. 553(b)(B).

II. Background

What Action is the Agency Taking?

EPA is transferring certain pesticide tolerances currently in 40 CFR parts 185 and 186 to 40 CFR part 180.

Before the passage of the Food Quality Protection Act (FQPA), pesticide residues in food and feed were regulated under two sections of the FFDCA. Residues in raw agricultural commodities were regulated under section 408 of the FFDCA. The term “raw agricultural commodity” is defined in section 201(r) of the FFDCA as any food in its raw or natural state, including all fruits that are washed, colored, or otherwise treated in their unpeeled natural form prior to marketing. Pesticide residues in processed food or animal feed were regulated as “food additives” under section 409 of the FFDCA. Because there were legal differences in authority and how and when tolerances could be established under sections 408 and 409, tolerances for the same pesticide could appear in several parts of the Code of Federal Regulations.

FQPA clarified the status of pesticide residues and brought all pesticide residues in food and feed under the authority of section 408 of the FFDCA. In addition, FQPA added a definition of “processed food” for the first time (section 201(gg) of the FFDCA). The term “processed food” is defined in section 201(gg) of the FFDCA as “any food other than a raw agricultural food and includes any raw agricultural commodity that has been subject to processing....” Subsequent to the passage of the FQPA, Congress, in the Antimicrobial Regulation Technical Corrections Act of 1988 (ARTCA) (Pub. L. 105-324), amended the definition of “pesticide residue” in section 201(q) of the FFDCA so as to exclude certain antimicrobial pesticide residues in raw and processed foods from the authority of section 408. These residues now fall within the coverage of FFDCA section 409. Since the statute has consolidated much of authority for and treatment of pesticide chemical residues in food and feed under FFDCA section 408, EPA is now transferring those pesticide chemical residue regulations established under section 409 that pertain to pesticide chemical residues now covered by section 408 to the portion of the CFR, part 180, in which section 408 tolerance regulations are collected.

EPA is transferring these pesticide chemical residue regulations in stages. A second document will be issued later transferring additional pesticide chemical residue regulations. Eventually, all pesticide residue regulations in parts 185 and 186 that pertain to pesticide residues covered by section 408 will be transferred to part 180, and users will be able to determine all the section 408 tolerances for a single pesticide chemical by referring to the listings in part 180.

At the same time, EPA is creating a general definition that it will use in tolerance regulations to cover all the types of food and feed commodities. Henceforth, the term “food commodity” will be used to refer to raw agricultural commodities (food and feed), processed food commodities and processed animal feed commodities. Accordingly, EPA is adding the following definition to 40 CFR 180.1:

The term “food commodity” is defined to mean:

(1) Any raw agricultural commodity (food or feed) as defined in section 201(r) of the FFDCA; and

(2) Any processed food or feed as defined in section 201(gg) of the FFDCA.

This new definition merely consolidates the existing terminology used in the regulations and does not have the effect of changing the scope of any regulations under part 180 or the regulations being transferred to part 180. To the extent any existing regulations in part 180 apply to pesticide chemical residues that were transferred by ARTCA from coverage under section 408 to section 409, EPA will work with FDA, the agency that administers section 409, to insure that these regulations are identified and transferred to a portion of the CFR under FDA's jurisdiction.

While EPA believes that it has accurately transferred each of the tolerances included in this rule, the Agency would appreciate readers notifying EPA of discrepancies, omissions or technical problems by submitting them to the address or e-mail address under FOR FURTHER INFORMATION CONTACT. These would be corrected in a future rule.

EPA is not at this time making any changes in the tolerances or the commodities to which they apply, nor is EPA reassessing the adequacy of the tolerances under FFDCA standards for safety. Further, EPA is not at this time standardizing the terminology used to describe various food commodities. EPA is aware that there may be inconsistencies in the description of food commodities among parts 180, 185 and 186. EPA will make such changes when all tolerances have been consolidated. No tolerances are revoked by this rule. Duplicate tolerance entries, which would be created by transferring food and feed additive tolerances established for the same food commodity at the same tolerance level from parts 185 and 186 to the corresponding part 180 section, have been deleted.

III. Regulatory Assessment Requirements

Under Executive Order 12866 (58 FR 51735, October 4, 1993), this action is not a “significant regulatory action” and is therefore not subject to review by the Office of Management and Budget. Because the agency has made a “good cause” finding that this action is not subject to notice-and-comment requirements under the Administrative Procedure Act, it is not subject to the provisions of the Regulatory Flexibility Act (5 U.S.C. 601 et seq.), or to sections 202 and 205 of the Unfunded Mandates Reform Act of 1995 (UMRA) (Pub. L. 104- 4). In addition, this action does not significantly or uniquely affect small governments or impose a significant intergovernmental mandate, as described in sections 203 and 204 of UMRA. This rule does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule is not subject to Executive Order 13045 (62 FR 19885, April 23, 1997), because it is not economically significant.

This rule does not involve technical standards; thus, the requirements of section 12(d) of the National Technology Transfer and Advancement Act of 1995 (15 U.S.C. 272 note) do not apply. The rule does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

IV. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. EPA has made such a good cause finding, including the reasons therefor, and established an effective date of [insert 30 days from date of publication in FR]. EPA will submit a report containing this rule and other required information to the U.S. Senate, the U.S. House of Representatives, and the Comptroller General of the United States prior to publication of the rule in the Federal Register. This action is not a “major rule” as defined by 5 U.S.C. 804(2).

List of Subjects

40 CFR Part 180

Environmental protection, Administrative practice and procedure, Agricultural commodities, Pesticides and pests, Reporting and recordkeeping requirements.

40 CFR Part 185

Environmental protection, Food additives, Pesticides and pests.

40 CFR Part 186

Environmental protection, Animal feeds, Pesticides and pests.

Dated: May 10, 2000.
Susan B. Hazen,
Acting Director, Office of Pesticide Programs.

Therefore, 40 CFR Chapter I, Subchapter E is amended as follows:

PART 180—[AMENDED]

1. In part 180:

a. The authority citation for part 180 continues to read as follows:

Authority: 21 U.S.C. 346a and 371.

Subpart A—[Amended]

b. In subpart A, § 180.1 is amended by adding paragraph (p) to read as follows:

§ 180.1 Definitions and interpretations.

* * * * *

(p) The term food commodity means:

(1) Any raw agricultural commodity (food or feed) as defined in section 201(r) of the Federal Food, Drug, and Cosmetic Act (FFDCA); and

(2) Any processed food or feed as defined in section 201(gg) of the FFDCA.

Subpart D—[Amended]

c. In subpart D, § 180.111 is amended by revising paragraph (a) to read as follows:

§ 180.111 Malathion; tolerances for residues.

(a) General. (1) Tolerances are established for residues of the insecticide malathion (O,O-dimethyl dithiophosphate of diethyl mercaptosuccinate) in or on the following food commodities:

Commodity | Parts per million
Alfalfa (PRE-H) | 135
Almond hulls (PRE-H) | 50
Almonds (PRE- and POST-H) | 8
Almonds, shells | 50
Apples (PRE-H) | 8
Apricots (PRE-H) | 8
Asparagus (PRE-H) | 8
Avocados (PRE-H) | 8
Barley, grain (PRE- and POST-H) | 8
Beans (PRE-H) | 8
Beets (including tops) (PRE-H) | 8
Beets, sugar, roots (PRE-H) | 1
Beets, sugar, tops (PRE-H) | 8
Birdsfoot trefoil, forage (PRE-H) | 135
Birdsfoot trefoil, hay (PRE-H) | 135
Blackberries (PRE-H) | 8
Blueberries (PRE-H) | 8
Boysenberries (PRE-H) | 8
Carrots (PRE-H) | 8
Cattle, fat (PRE-S) | 4
Cattle, mbyp ¹ (PRE-S) | 4
Cattle, meat ¹ (PRE-S) | 4
Chayote fruit | 8
Chayote roots | 8
Cherries (PRE-H) | 8
Chestnuts (PRE-H) | 1
Clover (PRE-H) | 135
Corn, forage (PRE-H) | 8
Corn, fresh (including sweet K+CWHR) (PRE-H) | 2
Corn, grain (POST-H) | 8
Cottonseed (PRE-H) | 2
Cowpea, forage (PRE-H) | 135
Cowpea, hay (PRE-H) | 135
Cranberries (PRE-H) | 8
Cucumbers (PRE-H) | 8
Currants (PRE-H) | 8
Dates (PRE-H) | 8
Dewberries (PRE-H) | 8
Eggplants (PRE-H) | 8
Eggs (from application to poultry) | 0.1
Figs (PRE-H) | 8
Filberts (PRE-H) | 1
Flax seed | 0.1
Flax straw | 1
Garlic (PRE-H) | 8
Goats, fat (PRE-S) | 4
Goats, mbyp ¹ (PRE-S) | 4
Goats, meat ¹ (PRE-S) | 4
Gooseberries (PRE-H) | 8
Grapefruit (PRE-H) | 8
Grapes (PRE-H) | 8
Grass, (PRE-H) | 135
Grass, hay (PRE-H) | 135
Guavas (PRE-H) | 8
Hogs, fat (PRE-S) | 4
Hogs, mbyp ¹ (PRE-S) | 4
Hogs, meat ¹ (PRE-S) | 4
Hops (PRE-H) | 1
Horseradish (PRE-H) | 8
Horses, fat (PRE-S) | 4
Horses, mbyp ¹ (PRE-S) | 4
Horses, meat ¹ (PRE-S) | 4
Kumquats (PRE-H) | 8
Leeks (PRE-H) | 8
Lemons (PRE-H) | 8
Lentils (PRE-H) | 8
Lespedeza, hay (PRE-H) | 135
Lespedeza, seed (PRE-H) | 8
Lespedeza, straw (PRE-H) | 135
Limes (PRE-H) | 8
Loganberries (PRE-H) | 8
Lupine, seed (PRE-H) | 8
Macadamia nuts (PRE-H) | 1
Mangos (PRE-H) | 8
Melons (PRE-H) | 8
Milk, fat (from application to dairy cows) | 0.5
Mushrooms (PRE-H) | 8
Nectarines (PRE-H) | 8
Oats, grain (PRE- and POST-H) | 8
Okra (PRE-H) | 8
Onions (including green onions) (PRE-H) | 8
Oranges (PRE-H) | 8
Papayas (PRE-H) | 1
Parsnips (PRE-H) | 8
Passion fruit (PRE-H) | 8
Peaches (PRE-H) | 8
Peanut, forage (PRE-H) | 135
Peanut, hay (PRE-H) | 135
Peanuts (PRE- and POST-H) | 8
Pears (PRE-H) | 8
Peas (PRE-H) | 8
Peavine, hay (PRE-H) | 8
Peavines (PRE-H) | 8
Pecans (PRE-H) | 8
Peppermint (PRE-H) | 8
Peppers (PRE-H) | 8
Pineapples (PRE-H) | 8
Plums (PRE-H) | 8
Potatoes (PRE-H) | 8
Poultry, fat (PRE-S) | 4
Poultry, mbyp ¹ (PRE-S) | 4
Poultry, meat ¹ (PRE-S) | 4
Prunes (PRE-H) | 8
Pumpkins (PRE-H) | 8
Quinces (PRE-H) | 8
Radishes (PRE-H) | 8
Raspberries (PRE-H) | 8
Rice, grain (PRE- and POST-H) | 8
Rice, wild | 8
Rutabagas (PRE-H) | 8
Rye, grain (PRE- and POST-H) | 8
Safflower, seed (PRE-H) | 0.2
Salsify (including tops) (PRE-H) | 8
Shallots (PRE-H) | 8
Sheep, fat (PRE-S) | 4
Sheep, mbyp ¹ (PRE-S) | 4
Sheep, meat ¹ (PRE-S) | 4
Sorghum, forage (PRE-H) | 8
Sorghum, grain (PRE- and POST-H) | 8
Soybeans (dry and succulent) (PRE-H) | 8
Soybeans, forage (PRE-H) | 135
Soybeans, hay (PRE-H) | 135
Spearmint (PRE-H) | 8
Squash, summer and winter (PRE-H) | 8
Strawberries (PRE-H) | 8
Sunflower seeds (Post-H) | 8
Sweet potatoes (PRE-H) | 1
Tangerines (PRE-H) | 8
Tomatoes (PRE-H) | 8
Turnips (including tops) (PRE-H) | 8
Vegetables, leafy, Brassica (cole) | 8
Vegetables, leafy (except Brassica) | 8
Vetch, hay (PRE-H) | 135
Vetch, seed (PRE-H) | 8
Vetch, straw (PRE-H) | 135
Walnuts (PRE-H) | 8
Wheat, grain (PRE- and POST-H) | 8
¹ The tolerance level shall not be exceeded in any cut of meat or in any meat byproduct from cattle, goats, hogs, horses, poultry, or sheep.

(2) Malathion may be safely used in accordance with the following conditions:

(i) It is incorporated into paper trays in amounts not exceeding 100 milligrams per square foot.

(ii) Treated paper trays are intended for use only in the drying of grapes (raisins).

(iii) Total residues of malathion resulting from drying of grapes on treated trays and from application to grapes before harvest shall not exceed 12 parts per million on processed ready-to-eat raisins.

(3) Residues of malathion in refined safflower oil from application to the growing safflower plant shall not exceed 0.6 parts per million.

(4) Malathion may be safely used for the control of insects during the drying of grapes (raisins) in compliance with paragraph (a)(2) of this section by incorporation into paper trays in amounts not exceeding 100 milligrams per square foot.

(5) Malathion (O,O-dimethyl dithiophosphate of diethyl mercaptosuccinate) may be safely used in feed in accordance with the following conditions.

(i) A tolerance of 50 parts per million is established for residues of malathion in dehydrated citrus pulp for cattle feed, when present as the result of the application of the pesticide to bagged citrus pulp during storage. Whether or not tolerances for residues of malathion on the fresh fruit have been established under section 408 of the Act, the total residue of malathion in the dried citrus pulp shall not exceed 50 parts per million.

(ii) A tolerance of 10 parts per million is established for malathion in nonmedicated cattle feed concentrate blocks resulting from its application as a pesticide to paper used in packaging the nonmedicated cattle feed concentrate blocks.

* * * * *

d. Section 180.151 is revised to read as follows:

§ 180.151 Ethylene oxide; tolerances for residues.

(a) General. (1) Tolerances are established for residues of the antimicrobial agent and insecticide ethylene oxide, when used as a postharvest fumigant in or on the following food commodities:

Commodity | Parts per million
Black walnut meats | 50
Copra | 50
Spices, whole | 50

(2) Ethylene oxide may be safely used as a fumigant for the control of microorganisms and insect infestation in ground spices and other processed natural seasoning materials, except mixtures to which salt has been added, in accordance with the following prescribed conditions:

(i) Ethylene oxide, either alone or admixed with carbon dioxide or dichlorodifluoromethane, shall be used in amounts not to exceed that required to accomplish the intended technical effects. If used with dichlorodifluoromethane, the dichlorodifluoromethane shall conform with the requirements prescribed by 21 CFR 173.355 of this chapter.

(ii) To assure safe use of the fumigant, its label and labeling shall conform to that registered with the U.S. Environmental Protection Agency and it shall be used in accordance with such label or labeling.

(iii) Residues of ethylene oxide in ground spices from both postharvest application to whole spices and application to the ground spices shall not exceed the established tolerance of 50 parts per million for residues in whole spices in paragraph (a)(1) of this section.

(b) Section 18 emergency exemptions. [Reserved]

(c) Tolerances with regional registrations. [Reserved]

(d) Indirect or inadvertent residues. [Reserved]

e. Section 180.169 is revised to read as follows:

§ 180.169 Carbaryl; tolerances for residues.

(a) General. (1) Tolerances are established for residues of the insecticide carbaryl (1-naphthyl N-methylcarbamate), including its hydrolysis product 1-naphthol, calculated as 1-naphthyl N-methylcarbamate, in or on the following food commodities:

Commodity | Parts per million
Alfalfa | 100
Alfalfa, hay | 100
Almonds | 1
Almonds, hulls | 40
Apricots | 10
Asparagus | 10
Bananas | 10
Barley, grain | 0
Barley, green fodder | 100
Barley, straw | 100
Beans | 10
Beans, forage | 100
Beans, hay | 100
Beets, garden (roots) | 5
Beets, garden (tops) | 12
Birdsfoot trefoil, forage | 100.0
Birdsfoot trefoil, hay | 100.0
Blackberries | 12
Blueberries | 10
Boysenberries | 12
Broccoli | 10
Brussels sprouts | 10
Cabbage | 10
Carrots | 10
Cauliflower | 10
Celery | 10
Cherries | 10
Chestnuts | 1
Chinese cabbage | 10
Citrus fruits | 10
Clover | 100
Clover, hay | 100
Collards | 12
Corn, fresh (including sweet) K+CWHR | 5
Corn, fodder | 100
Corn, forage | 100
Cotton, forage | 100
Cottonseed | 5
Cowpeas | 5
Cowpeas, forage | 100
Cowpeas, hay | 100
Cranberries | 10
Cucumbers | 10
Dandelions | 12
Dewberries | 12
Eggplants | 10
Endive (escarole) | 10
Filberts (hazelnuts) | 1
Flax, seed | 5
Flax, straw | 100
Grapes | 10
Grass | 100
Grass, hay | 100
Horseradish | 5
Kale | 12
Kohlrabi | 10
Lentils | 10
Lettuce | 10
Loganberries | 12
Maple sap | 0.5
Melons | 10
Millet, proso, grain | 3
Millet, proso, straw | 100
Mustard greens | 12
Nectarines | 10
Oats, fodder, green | 100
Oats, grain | 0
Oats, straw | 100
Okra | 10
Olives | 10
Oysters | 0.25
Parsley | 12
Parsnips | 5
Peaches | 10
Peanuts | 5
Peanuts, hay | 100
Peas (with pods) | 10
Peavines | 100
Pecans | 1
Peppers | 10
Pistachio nuts | 1
Plums (fresh prunes) | 10
Poultry, fat | 5
Poultry, meat | 5
Potatoes | 0.2(N)
Prickly pear cactus, fruit | 12.0
Prickly pear cactus, pads | 12.0
Pumpkins | 10
Radishes | 5
Raspberries | 12
Rice | 5
Rice, straw | 100
Rutabagas | 5
Rye, fodder, green | 100
Rye, grain | 0
Rye, straw | 100
Salsify (roots) | 5
Salsify (tops) | 10
Sorghum, forage | 100
Sorghum, grain | 10
Soybeans | 5
Soybeans, forage | 100
Soybeans, hay | 100
Spinach | 12
Squash, summer | 10
Squash, winter | 10
Strawberries | 10
Sugar beets, tops | 100
Sunflower seeds | 1
Sweet potatoes | 0.2
Swiss chard | 12
Tomatoes | 10
Turnips, roots | 5
Turnips, tops | 12
Walnuts | 1
Wheat, fodder, green | 100
Wheat (grain) | 3
Wheat, straw | 100

(2) Tolerances are established for residues of the insecticide carbaryl (1-naphthyl N-methylcarbamate) including its metabolites 1-naphthol (naphthyl-sulfate), 5,6-dihydrodihydroxycarbaryl, and 5,6-dihydrodihydroxy naphthol, calculated as 1-naphthyl N-methylcarbamate in or on the following food commodities:

Commodity | Part per million
Cattle, fat | 0.1
Cattle, kidney | 1
Cattle, liver | 1
Cattle, meat | 0.1
Cattle (mbyp) | 0.1
Goats, fat | 0.1
Goats, kidney | 1
Goats, liver | 1
Goats, meat | 0.1
Goats (mbyp) | 0.1
Horses, fat | 0.1
Horses, kidney | 1
Horses, liver | 1
Horses, meat | 0.1
Horses (mbyp) | 0.1
Sheep, fat | 0.1
Sheep, kidney | 1
Sheep, liver | 1
Sheep, meat | 0.1
Sheep (mbyp) | 0.1
Swine, fat | 0.1
Swine, kidney | 1
Swine, liver | 1
Swine, meat | 0.1
Swine (mbyp) | 0.1

(3) A tolerance is established for residues of the insecticide carbaryl (1-naphthyl N-methylcarbamate), including its metabolites 1-naphthol (naphthyl sulfate), 5,6-dihydro-dihydroxycarbaryl and 5-methoxy-6-hydroxycarbaryl, calculated as 1-naphthyl N-methylcarbamate in or on the food commodity milk at 0.3 ppm.

(4) Tolerances are established for residues of the insecticide carbaryl (1-naphthyl N-methylcarbamate) in or on the following food commodities:

Commodity | Parts per million
Pineapple bran (wet and dry) | 20
Pineapples | 2.0
Pome fruits | 10.0

(b) Section 18 emergency exemptions. [Reserved]

(c) Tolerances with regional registrations. Tolerances with regional registration are established for the insecticide carbaryl (1-napthyl N-methylcarbamate) in or on the following food commodities.

Commodity | Parts per million
Avocados | 10.0
Dill (fresh) | 0.2

(d) Indirect or inadvertent residues. [Reserved]

f. Section 180.182 is revised to read as follows:

§ 180.182 Endosulfan; tolerances for residues.

(a) General. (1) Tolerances are established for the total residues of the insecticide endosulfan (6,7,8,9,10,10-hexachloro-1,5,5a,6,9,9a-hexahydro-6,9-methano-2,4,3-benzodioxathiepin-3-oxide) and its metabolite endosulfan sulfate (6,7,8,9,10,10-hexachloro-1,5,5a,6,9,9a-hexahydro-6,9-methano-2,4,3-benzodioxathiepin-3,3-dioxide) in or on the food commodities:

Commodity | Parts per million
Alfalfa, fresh | 0.3
Alfalfa, hay | 1.0
Almonds | 0.2(N)
Almonds, hulls | 1.0
Apples | 2.0
Apricots | 2.0
Artichokes | 2.0
Barley, grain | 0.1(N)
Barley, straw | 0.2(N)
Beans | 2.0
Beets, sugar, without tops | 0.1(N)
Blueberries | 0.1(N)
Broccoli | 2.0
Brussels sprouts | 2.0
Cabbage | 2.0
Carrots | 0.2
Cattle, fat | 0.2
Cattle, mbyp | 0.2
Cattle, meat | 0.2
Cauliflower | 2.0
Celery | 2.0
Cherries | 2.0
Collards | 2.0
Corn, sweet (K+CWHR) | 0.2
Cottonseed | 1.0
Cucumbers | 2.0
Eggplant | 2.0
Filberts | 0.2(N)
Goats, fat | 0.2
Goats, mbyp | 0.2
Goats, meat | 0.2
Grapes | 2.0
Hogs, fat | 0.2
Hogs, mbyp | 0.2
Hogs, meat | 0.2
Horses, fat | 0.2
Horses, mbyp | 0.2
Horses, meat | 0.2
Kale | 2.0
Lettuce | 2.0
Macadamia nuts | 0.2(N)
Melons | 2.0
Milk, fat (=N in whole milk) | 0.5
Mustard greens | 2.0
Mustard seed | 0.2(N)
Nectarines | 2.0
Oats, grain | 0.1(N)
Oats, straw | 0.2(N)
Peaches | 2.0
Pears | 2.0
Peas, succulent | 2.0
Pecans | 0.2(N)
Peppers | 2.0
Pineapples | 2.0
Plums | 2.0
Potatoes | 0.2(N)
Prunes | 2.0
Pumpkins | 2.0
Rape seed | 0.2(N)
Raspberries | 0.1
Rye, grain | 0.1(N)
Rye, straw | 0.2(N)
Safflower seed | 0.2(N)
Sheep, fat | 0.2
Sheep, mbyp | 0.2
Sheep, meat | 0.2
Spinach | 2.0
Squash, summer | 2.0
Squash, winter | 2.0
Strawberries | 2.0
Sugarcane | 0.5
Sunflower seed | 2.0
Sweet potatoes | 0.2
Tomatoes | 2.0
Turnips, greens | 2.0
Walnuts | 0.2(N)
Watercress | 2.0
Wheat, grain | 0.1(N)
Wheat, straw | 0.2(N)

(2) A tolerance of 24 parts per million is established for combined residues of the insecticide endosulfan (6,7,8,9,10,10-hexachloro-1,5,5a,6,9,9a-hexahydro-6,9-methano-2,4,3-benzodioxathiepin-3-oxide) and its metabolite endosulfan sulfate (6,7,8,9,10,10-hexachloro-1,5,5a,6,9,9a-hexahydro-6,9-methano-2,4,3-benzodioxathiepin-3,3-dioxide) in or on dried tea (reflecting less than 0.1 part per million residues in beverage tea) resulting from application of the insecticide to growing tea.

(b) Section 18 emergency exemptions. [Reserved]

(c) Tolerances with regional registrations. [Reserved]

(d) Indirect or inadvertent residues. [Reserved]

g. Section 180.204 is revised as follows:

§ 180.204 Dimethoate including its oxygen analog; tolerances for residues.

(a) General. Tolerances are established for total residues of the insecticide dimethoate (O,O-dimethyl S-(N-methylcarbamoylmethyl) phosphorodithioate) including its oxygen analog (O,O-dimethyl S-(N- methylcarbamoylmethyl) phosphorothioate) in or on the following food commodities:

Commodity | Parts per million
Alfalfa | 2
Apples | 2
Beans, dry | 2
Beans, lima | 2
Beans, snap | 2
Blueberries¹ | 1
Broccoli | 2
Cabbage | 2
Cattle, fat | 0.02(N)
Cattle, mbyp | 0.02(N)
Cattle, meat | 0.02(N)
Cauliflower | 2
Celery | 2
Citrus, pulp, dried | 5
Collards | 2
Corn, fodder | 1
Corn, forage | 1
Corn, grain | 0.1(N)
Cottonseed | 0.1
Eggs | 0.02(N)
Endive (escarole) | 2
Goats, fat | 0.02(N)
Goats, mbyp | 0.02(N)
Goats, meat | 0.02(N)
Grapefruit | 2
Grapes | 1
Hogs, fat | 0.02(N)
Hogs, mbyp | 0.02(N)
Hogs, meat | 0.02(N)
Horses, fat | 0.02(N)
Horses, mbyp | 0.02(N)
Horses, meat | 0.02(N)
Kale | 2
Lemons | 2
Lentils | 2.0
Lettuce | 2
Melons | 1
Milk | 0.002(N)
Mustard greens | 2
Oranges | 2
Pears | 2
Peas | 2
Pecans | 0.1
Peppers | 2
Potatoes | 0.2
Poultry, fat | 0.02(N)
Poultry, mbyp | 0.02(N)
Poultry, meat | 0.02(N)
Safflower seed | 0.1
Sheep, fat | 0.02(N)
Sheep, mbyp | 0.02(N)
Sheep, meat | 0.02(N)
Sorghum, forage | 0.2
Sorghum, grain | 0.1
Soybeans | 0.05(N)
Soybeans, forage | 2
Soybeans, hay | 2
Spinach | 2
Swiss chard | 2
Tangerines | 2
Tomatoes | 2
Turnips, roots | 2
Turnips, tops | 2
Wheat, grain | 0.04(N)
Wheat, green fodder | 2
Wheat, straw | 2
¹There are no U.S. registrations as of August 16, 1995.

(b) Section 18 emergency exemptions. [Reserved]

(c) Tolerances with regional registrations. Tolerances with regional registration, as defined in § 180.1(n), are established for total residues of dimethoate including its oxygen analog in or on the following food commodities:

Commodity | Parts per million
Asparagus | 0.15
Brussels sprouts | 5
Cherries | 2

(d) Indirect or inadvertent residues. [Reserved]

h. Section 180.235 is amended by revising the section heading and by adding paragraph (a)(3) to read as follows:

§ 180.235 Dichlorvos; tolerances for residues.

(a) * * *

(3) Dichlorvos may be present as a residue from application as an insecticide on packaged or bagged nonperishable processed food (see: 21 CFR 170.3(j)) in an amount in such food not in excess of 0.5 part per million (ppm). To assure safe use of the insecticide, its label and labeling shall conform to the label and labeling registered by the U.S. Environmental Protection Agency, and the usage employed shall conform with such label or labeling.

* * * * *

i. Section 180.252 is amended by revising the section heading and paragraph (a) to read as follows:

§ 180.252 Tetrachlorvinphos; tolerances for residues.

(a) General. (1) Tolerances are established for residues of the insecticide tetrachlorvinphos (2-chloro-1-(2,4,5-trichlorophenyl) vinyl dimethyl phosphate) in or on the following food commodities:

Commodity | Parts per million
Alfalfa | 110
Cattle, fat | 1.5
Egg | 0.1
Goat, fat | 0.5
Hog, fat | 1.5
Horse, fat | 0.5
Milk, fat (reflecting negligible residues in whole milk) | 0.5
Poultry, fat | 0.75
Sheep, fat | 0.5

(2) Tetrachlorvinphos may be safely used in accordance with the following prescribed conditions:

(i) It is used in the feed of beef, dairy cattle, and horses at a rate of 0.00015 pound (0.07 gram) and swine at the rate of 0.00011 pound (0.05 gram) per 100 pounds of body weight per day.

(ii) It is used for control of fecal flies in manure of treated cattle, horses, and swine.

(iii) To assure safe use of the pesticide, the label and labeling of the pesticide formulation shall conform to the label and labeling registered by the United States Environmental Protection Agency.

* * * * *

j. Section 180.253 is revised to read as follows:

§ 180.253 Methomyl; tolerances for residues.

(a) General. Tolerances are established for residues of the insecticide methomyl (S-methyl N-[(methylcarbamoyl)oxy] thioacetimidate) in or on the food commodities as follows:

Commodity | Parts per million
Alfalfa | 10
Apples | 1
Asparagus | 2
Avocados | 2
Barley, grain | 1
Barley, hay | 10
Barley, straw | 10
Beans, dry | 0.1(N)
Beans, forage | 10
Beans, succulent | 2
Beets, tops | 6
Blueberries | 6
Brassica (cole) leafy vegetables | 6.0
Broccoli | 3
Brussels sprouts | 2
Cabbage | 5
Cauliflower | 2
Celery | 3
Chinese cabbage | 5
Collards | 6
Corn, fodder | 10
Corn, forage | 10
Corn, fresh (inc sweet K+CWHR) | 0.1(N)
Corn, grain (inc pop) | 0.1(N)
Cottonseed | 0.1(N)
Cucurbits | 0.2(N)
Dandelions | 6
Endive (escarole) | 5
Grapefruit | 2
Grapes | 5
Grass, Bermuda | 10
Grass, Bermuda, hay (dried and dehydrated) | 40
Hops, dried¹ | 12
Kale | 6
Leeks | 3.0
Lemons | 2
Lentils | 0.1
Lettuce | 5
Mint, hay | 2
Mustard greens | 6
Nectarines | 5
Oats, forage | 10
Oats, grain | 1
Oats, hay | 10
Oats, straw | 10
Onions, green | 3
Oranges | 2
Parsley | 6
Peaches | 5
Peanuts | 0.1(N)
Peas | 5
Peas, vines | 10
Pecans | 0.1
Peppers | 2
Pomegranates | 0.2(N)
Rye, forage | 10
Rye, grain | 1
Rye, hay | 10
Rye, straw | 10
Sorghum, forage | 1
Sorghum, grain | 0.2(N)
Soybeans | 0.2(N)
Soybeans, forage | 10
Spinach | 6
Strawberries | 2
Swiss chard | 6
Tangerines | 2
Tomatoes | 1
Turnip greens, tops | 6
Vegetables, fruiting | 0.2(N)
Vegetables, leafy [exc. beets (tops), broccoli, Brussels sprouts, cabbage, cauliflower, celery, Chinese cabbage, collards, dandelions, endive (escarole), kale, lettuce, mustard greens, parsley, spinach, Swiss chard, turnip greens (tops), and watercress] | 0.2(N)
Vegetables, root crop | 0.2(N)
Watercress | 6
Wheat, forage | 10
Wheat, grain | 1
Wheat, hay | 10
Wheat, straw | 10
¹There are no U.S. registrations for use of methomyl on dried hops as of February 14, 1990.

(b) Section 18 emergency exemptions. [Reserved]

(c) Tolerances with regional registrations. Tolerances with regional registration, as defined in § 180.1(n), are established for residues of methomyl in or on the following food commodities:

Commodity | Parts per million
Pears | 4

(d) Indirect or inadvertent residues. [Reserved]

k. Section 180.272 is revised to read as follows:

§ 180.272 Tribuphos; tolerances for residues.

(a) General. Tolerances are established for residues of the defoliant tribuphos (S,S,S-tributyl phosphorotrithioate) in or on food commodities as follows:

Commodity | Parts per million
Cattle, fat (negligible residue) | 0.02
Cattle, mbyp (negligible residue) | 0.02
Cattle, meat (negligible residue) | 0.02
Cottonseed | 4
Cottonseed, hulls | 6
Goats, fat (negligible residue) | 0.02
Goats, mbyp (negligible residue) | 0.02
Goats, meat (negligible residue) | 0.02
Milk (negligible residue) | 0.002
Sheep, fat (negligible residue) | 0.02
Sheep, mbyp (negligible residue) | 0.02
Sheep, meat (negligible residue) | 0.02

(b) Section 18 emergency exemptions. [Reserved]

(c) Tolerances with regional registrations. [Reserved]

(d) Indirect or inadvertent residues. [Reserved]

l. Section 180.303 is revised to read as follows:

§ 180.303 Oxamyl; tolerances for residues.

(a) General. (1) Tolerances are established for the sum of the residues of the insecticide oxamyl (methyl N-N-dimethyl-N-[(methylcarbamoyl)-oxy]-1-thiooxamimidate) and its oxime metabolite N,N-dimethyl-N-hydroxy-1-thiooxamimidate calculated as oxamyl in or on the following food commodities:

Commodity | Parts per million
Apples | 2
Bananas | 0.3
Cantaloupe | 2.0
Celery | 3
Citrus fruits | 3
Cottonseed | 0.2
Cucumbers | 2.0
Eggplants | 2.0
Honeydews | 2.0
Peanuts | 0.2
Peanut, forage | 2.0
Peanut, hay | 2.0
Pears | 2.0
Peppermint, hay | 10.0
Peppers (bell) | 3
Peppers, non-bell | 5.0
Pineapples | 1
Pineapples, forage | 10
Potatoes | 0.1
Pumpkins | 2.0
Root crop vegetables | 0.1
Soybeans | 0.2
Soybean straw | 0.2
Spearmint, hay | 10.0
Summer Squash | 2.0
Tomatoes | 2
Winter Squash | 2.0
Watermelon | 2.0

(2) A tolerance of 6 parts per million is established for residues of the insecticide oxamyl (methyl N,N-dimethyl-N-[(methylcarbamoyl)oxy]-1-thiooxamimidate) in pineapple bran as a result of application of the insecticide to growing pineapples.

(b) Section 18 emergency exemptions. [Reserved]

(c) Tolerances with regional registrations. [Reserved]

(d) Indirect or inadvertent residues. [Reserved]

m. Section 180.332 is amended by revising the heading and paragraph (a) to read as follows:

§ 180.332 Metribuzin; tolerances for residues.

(a)General. Tolerances are established for combined residues of the herbicide metribuzin (4-amino-6-(1,1-dimethyl- ethyl)-3-(methylthio)-;1,2,4-triazin-5(4H)-one) and its triazinone metabolites in or on food commodities:

Commodity | Parts per million
Alfalfa, green | 2
Alfalfa, hay | 7
Asparagus | 0.05
Barley, grain | 0.75
Barley, milled fractions (except flour) | 3
Barley, straw | 1
Carrots | 0.3
Cattle, fat | 0.7
Cattle, mbyp | 0.7
Cattle, meat | 0.7
Corn, fodder | 0.1
Corn, forage | 0.1
Corn, fresh (inc. sweet K + CWHR) | 0.05
Corn, grain (inc. popcorn) | 0.05
Eggs | 0.01
Goats, fat | 0.7
Goats, mbyp | 0.7
Goats, meat | 0.7
Grass | 2
Grass, hay | 7
Hogs, fat | 0.7
Hogs, mbyp | 0.7
Hogs, meat | 0.7
Horses, fat | 0.7
Horses, mbyp | 0.7
Horses, meat | 0.7
Lentils (dried) | 0.05
Lentils, vine hay | 0.05
Milk | 0.05
Peas | 0.1
Peas (dried) | 0.05
Peas, forage | 0.5
Peas, vine hay | 0.05
Potatoes | 0.6
Potatoes, processed (inc. potato chips) | 3
Potato waste, processed (dried) | 3
Poultry, fat | 0.7
Poultry, mbyp | 0.7
Poultry, meat | 0.7
Sainfoin | 2
Sainfoin, hay | 7
Sheep, fat | 0.7
Sheep, mbyp | 0.7
Sheep, meat | 0.7
Soybeans | 0.1
Soybeans, forage | 4
Soybeans, hay | 4
Sugarcane | 0.1
Sugarcane molassses | 2
Tomatoes | 0.1
Wheat, forage | 2
Wheat, grain | 00.75
Wheat, milled fractions (except flour) | 3
Wheat, straw | 1

* * * * *

n. Section 180.371 is revised to read as follows:

§ 180.371 Thiophanate-methyl; tolerances for residues.

(a) General. Tolerances are established for residues of the fungicide thiophanate-methyl (dimethyl [(1,2-phenylene)-bis(iminocarbonothioyl)] bis[carbamate]), its oxygen analogue dimethyl-4,4-o-phenylene bis(allophonate), and its benzimidazole-containing metabolites (calculated as thiophanate-methyl) in or on the following food commodities:

Commodity | Parts per million
Almonds (PRE-H) | 0.2(N)
Almonds (hulls) pre-H | 1.0
Apple, dried pomace | 40.0
Apples (PRE- and POST-H) | 7.0
Apricots (PRE- and POST-H) | 15.0
Bananas (PRE-H) | 2.0
Bananas, pulp (PRE-H) | 0.2
Beans (snap and dry) (PRE-H) | 2.0
Bean (forage and hay) (PRE-H) | 50.0
Cattle, fat | 0.1
Cattle, kidney | 0.2(N)
Cattle, liver | 2.5
Cattle, meat byproducts (exc. kidney and liver) | 0.1(N)
Cattle, meat | 0.1(N)
Celery (PRE-H) | 3.0
Cherries (PRE- and POST-H) | 15.0
Cucumbers | 1.0
Eggs | 0.1(N)
Goats, fat | 0.1(N)
Goats, kidney | 0.2
Goats, liver | 2.5
Goat, meat byproducts (exc. kidney and liver) | 0.1(N)
Goat, meat | 0.1(N)
Hogs, fat | 0.1(N)
Hogs, liver | 1.0
Hogs, meat byproducts (exc. liver) | 0.1(N)
Hogs, meat | 0.1(N)
Horses, fat | 0.1(N)
Horses, liver | 1.0
Horses, meat byproducts (exc. liver) | 0.1(N)
Horses, meat | 0.1(N)
Melons | 1.0
Milk | 1.0
Nectarines (PRE- and POST-H) | 15.0
Onion, dry | 3.00
Onion, green | 3.00
Pecans (PRE-H) | 0.2
Peaches (PRE- and POST-H) | 15.0
Peanuts (PRE-H) | 0.2(N)
Peanuts (forage and hay) (PRE-H) | 15.0
Plums (PRE- and POST-H) | 15.0
Potatoes (seed treatment) | 0.05
Poultry, fat | 0.1(N)
Poultry, liver | 0.2(N)
Poultry, meat byproducts (exc. liver) | 0.1(N)
Poultry, meat | 0.1(N)
Prunes (PRE- and POST-H) | 15.0
Pumpkins | 1.0
Sheep, fat | 0.1(N)
Sheep, kidney | 0.2
Sheep, liver | 2.5
Sheep, meat byproducts (exc. kidney and liver) | 0.1(N)
Sheep, meat | 0.1(N)
Soybeans (PRE-H) | 0.2
Squash | 1.0
Strawberries (PRE-H) | 5.0
Sugar beets (roots PRE-H) | 0.2
Sugar beets (tops PRE-H) | 15.0
Sugarcane (seed piece treatment PRE-H) | 0.1(N)
Wheat, grain | 0.05
Wheat, hay | 0.10
Wheat, straw | 0.10

(b) Section 18 emergency exemptions. [Reserved]

(c) Tolerances with regional registrations. [Reserved]

(d) Indirect or inadvertent residues. [Reserved]

o. Section 180. 377 is revised to read as follows:

§ 180.377 Diflubenzuron; tolerances for residues.

(a) General. (1) Tolerances are established for residues of the insecticide diflubenzuron (N-[[(4-chlorophenyl)amino]carbonyl]-2,6-difluorobenzamide) in or on the following food commodities:

Commodity | Parts per million
Artichokes | 6.0
Cattle, fat | 0.05
Cattle, mbyp | 0.05
Cattle, meat | 0.05
Cottonseed | 0.2
Eggs | 0.05
Goats, fat | 0.05
Goats, mbyp | 0.05
Goats, meat | 0.05
Grapefruit | 0.5
Hogs, fat | 0.05
Hogs, mbyp | 0.05
Hogs, meat | 0.05
Horses, fat | 0.05
Horses, mbyp | 0.05
Horses, meat | 0.05
Milk | 0.05
Mushrooms | 0.2
Orange | 0.5
Poultry, fat | 0.05
Poultry, mbyp | 0.05
Poultry, meat | 0.05
Sheep, fat | 0.05
Sheep, mbyp | 0.05
Sheep, meat | 0.05
Soybeans | 0.05
Soybean hulls | 0.5
Tangerine | 0.5
Walnuts | 0.1

(2) A temporary tolerance expiring June 30, 1999, is established for residues of the insecticide diflubenzuron (N-[[4-chlorophenyl)amino]-carbonyl]-2,6-difluorobenzamide) and metabolites convertible to p-chloroaniline expressed as diflubenzuron on rice grain at 0.01 ppm.

(b) Section 18 emergency exemptions. [Reserved]

(c) Tolerances with regional registrations. Tolerances with regional registration, as defined in § 180.1(n), are established for residues of diflubenzuron in or on the following raw agricultural commodities:

Commodity | Parts per million
Grass, pasture | 1.0
Grass, range | 3.0

(d) Indirect or inadvertent residues. [Reserved]

p. Section 180.403 is revised to read as follows:

§ 180.403 Thidiazuron; tolerances for residues.

(a) General. Tolerances are established for the combined residues of the defoliant thidiazuron (N-phenyl-N-1,2,3-thiadiazol-5-ylurea) and its aniline containing metabolites in or on the following food commodities:

Commodity | Parts per million
Cattle, fat | 0.2
Cattle, meat | 0.2
Cattle, mbyp | 0.2
Cottonseed | 0.4
Cottonseed hulls | 0.8
Eggs | 0.1
Goat, fat | 0.2
Goats, meat | 0.2
Goat, mbyp | 0.2
Hogs, fat | 0.2
Hogs, meat | 0.2
Hogs, mbyp | 0.2
Horses, fat | 0.2
Horses, meat | 0.2
Horses, mbyp | 0.2
Milk | 0.05
Poultry, fat | 0.2
Poultry, meat | 0.2
Poultry, mbyp | 0.2
Sheep, fat | 0.2
Sheep, meat | 0.2
Sheep, mbyp | 0.2

(b) Section 18 emergency exemptions. [Reserved]

(c) Tolerances with regional registrations. [Reserved]

(d) Indirect or inadvertent residues. [Reserved]

q. Section 180.404 is revised to read as follows:

§ 180.404 Profenofos; tolerances for residues.

(a) General. Tolerances are established for combined residues of the insecticide profenofos [O-(4-bromo-2-chlorophenyl)-0-ethyl-S-propyl phosphorothioate and its metabolites converted to 4-bromo-2-chlorophenyl and calculated as profenofos in or on the following food commodities:

Commodity | Parts per million
Cattle, fat | 0.05
Cattle, mbyp | 0.05
Cattle, meat | 0.05
Cottonseed | 3.0
Cottonseed hulls | 6.0
Eggs | 0.05
Goats, fat | 0.05
Goats, mbyp | 0.05
Goats, meat | 0.05
Hogs, fat | 0.05
Hogs, mbyp | 0.05
Hogs, meat | 0.05
Horses, fat | 0.05
Horses, mbyp | 0.05
Horses, meat | 0.05
Milk | 0.01
Poultry, fat | 0.05
Poultry, mbyp | 0.05
Poultry, meat | 0.05
Sheep, fat | 0.05
Sheep, mbyp | 0.05
Sheep, meat | 0.05

(b) Section 18 emergency exemptions. [Reserved]

(c) Tolerances with regional registrations. [Reserved]

(d) Indirect or inadvertent residues. [Reserved]

r. Section 180.406 is revised to read as follows:

§ 180.406 Dimethipin; tolerances for residues.

(a) General. Tolerances are established for residues of the harvest growth regulant dimethipin (2,3-dihydro-5,6-dimethyl-1,4-dithiin 1,1,4,4-tetraoxide; CAS Reg. No. 55290-64-7) in or on the following food commodities:

Commodity | Parts per million
Cottonseed | 0.5
Cottonseed hulls | 0.7
Cattle, fat | 0.02
Cattle, meat | 0.02
Cattle, mbyp | 0.02
Goats, fat | 0.02
Goats, meat | 0.02
Goats, mbyp | 0.02
Hogs, fat | 0.02
Hogs, meat | 0.02
Hogs, mbyp | 0.02
Horses, fat | 0.02
Horses, meat | 0.02
Horses, mbyp | 0.02
Sheep, fat | 0.02
Sheep, meat | 0.02
Sheep, mbyp | 0.02

(b) Section 18 emergency exemptions. [Reserved]

(c) Tolerances with regional registrations. [Reserved]

(d) Indirect or inadvertent residues. [Reserved]

s. Section 180.408 is revised to read as follows:

§ 180.408 Metalaxyl; tolerances for residues.

(a) General. Tolerances are established for the combined residues of the fungicide metalaxyl [N-(2,6-dmethylphyenyl)-N-(methoxyacetyl) alanine methylester] and its metabolites containing the 2,6-dimethylaniline moiety, and N-(2-hydroxy methyl-6-methylphenyl)-N-(methoxyacetyl)-alanine methyl ester, each expressed as metalaxyl equivalents, in or on the following food commodities:

Commodity | Parts per million
Alfalfa, forage | 6.0
Alfalfa, hay | 20.0
Almonds | 0.5
Almonds, hulls | 10.0
Apples | 0.2
Apple, pomace (wet) | 0.4
Apricots (dried) | 4.0
Asparagus | 7.0
Avocados | 4.0
Beets | 0.1
Beet, tops | 0.1
Blueberries | 2.0
Brassica (cole) leafy vegetables group [except broccoli, cabbage, cauliflower, brussels sprouts, and mustard greens] | 0.1
Broccoli | 2.0
Brussels sprouts | 2.0
Cabbage | 1.0
Cattle, fat | 0.4
Cattle, kidney | 0.4
Cattle, liver | 0.4
Cattle, meat | 0.05
Cattle, mbyp (except kidney and liver) | 0.05
Cauliflower | 1.0
Cereal grains (except wheat, barley, and oats) | 0.1
Citrus fruit | 1.0
Citrus, oil | 7.0
Citrus, pulp | 7.0
Clover, forage | 1.0
Clover, hay | 2.5
Cottonseed | 0.1
Cranberry | 4.0
Cucurbit vegetables group | 1.0
Eggs | 0.05
Fruiting vegetables (except cucurbits) group | 1.0
Ginseng | 3.0
Goats, fat | 0.4
Goats, kidney | 0.4
Goats, liver | 0.4
Goats, meat | 0.05
Goats, mbyp (except kidney and liver) | 0.05
Grain, crops | 0.1
Grapes | 2.0
Grass, forage | 10.0
Grass, hay | 25.0
Hogs, fat | 0.4
Hogs, kidney | 0.4
Hogs, liver | 0.4
Hogs, meat | 0.05
Hogs, mbyp (except kidney and liver) | 0.05
Hops, dried | 20
Hops, green | 2.0
Horses, fat | 0.4
Horses, kidney | 0.4
Horses, liver | 0.4
Horses, meat | 0.05
Horses, mbyp (except kidney and liver) | 0.05
Leafy vegetables (except brassica) group (except spinach) | 5.0
Leaves of root and tuber vegetables (human food or animal feed) group | 15.0
Legume vegetable, cannery waste | 5.0
Legume vegetable foliage | 8.0
Legume vegetable group (dry or succulent) | 0.2
Lettuce, head | 5.0
Milk | 0.02
Mustard greens | 5.0
Onions, dry bulb | 3.0
Onions, green | 10.0
Peanut, hay | 20.0
Peanut, meal | 1.0
Peanut, nuts | 0.2
Peanut, shells | 2.0
Peanut, vines | 20.0
Pineapples | 0.1
Pineapple fodder | 0.1
Pineapple forage | 0.1
Potato waste, dried, processed | 4.0
Potatoes, processed (including potato chips) | 4.0
Poultry, fat | 0.4
Poultry, kidney | 0.4
Poultry, liver | 0.4
Poultry, meat | 0.05
Poultry, mbyp (except kidney and liver) | 0.05
Potatoes | 0.5
Prunes (dried) | 4.0
Raisins | 6.0
Raspberries | 0.5
Root and tuber vegetables group | 0.5
Sheep, fat | 0.4
Sheep, kidney | 0.4
Sheep, liver | 0.4
Sheep, meat | 0.05
Sheep, mbyp (except kidney and liver) | 0.05
Soybean, grain | 1.0
Soybean, hulls | 2.0
Soybean, meal | 2.0
Spinach | 10.0
Stonefruit group | 1.0
Strawberries | 10.0
Sugar beets | 0.1
Sugar beet molasses | 1.0
Sugar beet (roots) | 0.5
Sugar beet (tops) | 10.0
Sunflowers | 0.1
Sunflower, forage | 0.1
Tomatoes, processed | 3.0
Walnuts | 0.5

(b) Section 18 emergency exemptions. [Reserved]

(c) Tolerances with regional registrations. Tolerances with regional registration (refer to § 180.1(n)) are established for the combined residues of the fungicide metalaxyl [N-(2,6-dimethylphenyl)-N-(methoxyacetyl) alanine methyl ester] and its metabolites containing the 2,6-dimethylaniline moiety, and N-(2-hydroxy methyl-6-methyl)-N-(methoxyacetyl)-alanine methylester, each expressed as metalaxyl, in or on the following raw agricultural commodity:

Commodity | Parts per million
Papaya | 0.1

(d) Indirect or inadvertent tolerances. Tolerances are established for indirect or inadvertent residues of metalaxyl in or on the food commodities when present therein as a result of the application of metalaxyl to growing crops listed in paragraph (a) of this section and other non-food crops to read as follows:

Commodity | Part per million
Barley, grain | 0.2
Barley, fodder | 2.0
Barley, milling fractions | 1.0
Barley, straw | 2.0
Cereal grains group (except wheat, barley, and oats), fodder | 1.0
Cereal grains group (except wheat, barley, and oats), forage | 1.0
Cereal grains group (except wheat, barley, and oats), straw | 1.0
Oat, fodder | 2.0
Oat, forage | 2.0
Oat, grain | 0.2
Oat milling fractions | 1.0
Oat, straw | 2.0
Wheat, fodder | 2.0
Wheat, forage | 2.0
Wheat, grain | 0.2
Wheat, milling fractions | 1.0
Wheat, straw | 2.0

§ 180.422 [Amended]

t. Section 180.422 is amended as follows:

i. In paragraph (a)(1), by changing the phrase “agricultural commodities” to read “food commodities.”

ii. In paragraph (a)(2), remove the phrase “food additive.”

iii. In paragraph (a)(3), remove the phrase “feed additive.”

u. Section 180.427 is revised to read as follows:

§ 180.427 Fluvalinate; tolerances for residues.

(a) General. Tolerances are established for residues of the insecticide (alpha RS,2R)-fluvalinate [(RS)-alpha-cyano-3-phenoxybenzyl (R)-2-[2-chloro-4-(trifluoromethyl) anilino]-3-methylbutanoate in or on the following food commodities:

Commodity | Parts per million
Cattle, fat | 0.01
Cattle, mbyp | 0.01
Cattle, meat | 0.01
Cottonseed | 0.1
Cottonseed hulls | 0.3
Cottonseed oil (crude and refined) | 1.0
Eggs | 0.01
Goat, fat | 0.01
Goat, mbyp | 0.01
Goat, meat | 0.01
Hogs, fat | 0.01
Hogs, mbyp | 0.01
Hogs, meat | 0.01
Honey | 0.05
Horses, fat | 0.01
Horses, mbyp | 0.01
Horses, meat | 0.01
Milk | 0.01
Poultry, fat | 0.01
Poultry, mbyp | 0.01
Poultry, meat | 0.01
Sheep, fat | 0.01
Sheep, mbyp | 0.01
Sheep, meat | 0.01

(b) Section 18 emergency exemptions. [Reserved]

(c) Tolerances with regional registration. Tolerances with regional registration, as defined in § 180.1(n), are established for residues of the insecticide (alpha RS,2R)-fluvalinate[(RS)-alpha-cyano-3-phenoxybenzyl(R)-2-[2-chloro-4-(trifluoromethyl)anilino]-3-methylbutanoate in or on the following food commodities:

Commodity | Parts per million
Coffee | 0.01

(d) Indirect and inadvertent residues. [Reserved]

v. Section 180.463 is amended by revising paragraph (a) to read as follows:

§ 180.463 Quinclorac; tolerances for residues.

(a) General. Tolerances are established for residues of quinclorac (3,7-dichloro-8-quinoline carboxylic acid) in or the following food commodities:

Commodity | Parts per million
Aspirated grain fractions | 1200
Cattle, fat | 0.7
Cattle, mbyp | 1.5
Cattle, meat | 0.05
Eggs | 0.05
Goats, fat | 0.7
Goats, mbyp | 1.5
Goats, meat | 0.05
Hogs, fat | 0.7
Hogs, mbyp | 1.5
Hogs, meat | 0.05
Horses, fat | 0.7
Horses, mbyp | 1.5
Horses, meat | 0.05
Milk | 0.05
Poultry, fat | 0.05
Poultry, mbyp | 0.1
Poultry, meat | 0.05
Rice bran | 15.0
Rice grain | 5.0
Rice, straw | 12.0
Sheep, fat | 0.7
Sheep, mbyp | 1.5
Sheep, meat | 0.05
Sorghum, grain, forage | 3.0
Sorghum, grain, grain | 6.0
Sorghum, grain, stover | 1.0
Wheat forage | 1.0
Wheat germ | 0.75
Wheat grain | 0.5
Wheat hay | 0.5
Wheat straw | 0.1

* * * * *

w. Section 180.476 is revised to read as follows:

§ 180.476 Triflumizole; tolerances for residues.

(a) General. (1) Tolerances are established for the combined residues of the fungicide triflumizole, 1-(1-((4-chloro-2-(trifluoromethyl)phenyl)imino)-2-propoxyethyl)-1H-imidazole, and its metabolites containing the 4-chloro-2-trifluoromethylaniline moiety, calculated as the parent compound, in or on the following food commodities:

Commodity | Parts per million
Apple pomace | 2.0
Apples | 0.5
Grapes | 2.5
Grape pomace | 15.0
Pears | 0.5
Raisin waste | 10.0

(2) Tolerances are established for the combined residues of the fungicide triflumizole, 1-(1-((4-chloro-2-(trifluoromethyl)phenyl)imino)-2-propoxyethyl)-1H-imidazole, the metabolite 4-chloro-2-hydroxy-6-trifluoromethylaniline sulfate, and other metabolites containing the 4-chloro-2-trifluoromethylaniline moiety, calculated as the parent compound, in or on the following food commodities of animal origin:

Commodity | Parts per million
Cattle, fat | 0.5
Cattle, meat | 0.05
Cattle, mbyp | 0.5
Eggs | 0.05
Goats, fat | 0.5
Goats, meat | 0.05
Goats, mbyp | 0.5
Hogs, fat | 0.5
Hogs, meat | 0.05
Hogs, mbyp | 0.5
Horses, fat | 0.5
Horses, meat | 0.05
Horses, mbyp | 0.5
Milk | 0.05
Poultry, fat | 0.05
Poultry, meat | 0.05
Poultry, mbyp | 0.1
Sheep, fat | 0.5
Sheep, meat | 0.05
Sheep, mbyp | 0.5

(b) Section 18 emergency exemptions. [Reserved]

(c) Tolerances with regional registrations. [Reserved]

(d) Indirect or inadvertent residues. [Reserved]

x. Section 180.477 is revised to read as follows:

§ 180.477 Flumiclorac pentyl; tolerances for residues.

(a) General. Tolerances are established for residues of the herbicide flumiclorac pentyl, pentyl[2-chloro-4-fluoro-5-(1,3,4,5,6,7-hexahydro-1,3-dioxo-2H-isoindol-2-yl)phenoxy]acetate, including all the metabolites of flumiclorac pentyl, in or on the food commodities listed below. The tolerance level for each commodity is expressed in terms of the parent only which serves as an indicator of the use of flumiclorac pentyl on these food commodities.

Commodity | Parts per million
Corn, field, grain | 0.01
Corn, field, fodder | 0.01
Corn, field, forage | 0.01
Soybean, hulls | 0.02
Soybean, seed | 0.01

(b) Section 18 emergency exemptions. [Reserved]

(c) Tolerances with regional registrations. [Reserved]

(d) Indirect or inadvertent residues. [Reserved]

y. Section 180.491 is revised to read as follows:

§ 180.491 Propylene oxide; tolerances for residues.

(a) General. Propylene oxide may be safely used in or on foods in accordance with the following prescribed conditions:

(1) It is intended as a fumigant in or on bulk quantities of cocoa, gums, processed spices, and processed nutmeats (except peanuts) when such bulk foods are to be further processed into a final food form.

(2) It is applied in fumigation chambers not more than one time at a temperature not in excess of 125 °F. The maximum period of fumigation shall not exceed 4 hours for cocoa, processed nutmeats (except peanuts), and processed spices. For edible gums, the maximum duration shall be 24 hours.

(3) When used as described in paragraphs (a)(1) and (2) of this section, residues shall not exceed the following limitations:

Food | Limitations¹
Cocoa | 300
Gums | 300
Processed nutmeats (except peanuts) | 300
Spices, processed | 300
¹ Expressed as parts per million of propylene oxide.

(4) When used as a mixture with carbon dioxide (92 parts of carbon dioxide to 8 parts of propylene oxide on a weight/weight basis), all commodities listed in paragraph (a)(3) of this section may be processed not more than one time for a period not to exceed 48 hours and at a temperature not to exceed 125 °F.

(5) To assure safe use of the pesticide, the label and labeling of the pesticide formulation shall conform to the label an labeling registered by the U. S. Environmental Protection Agency.

(b) Section 18 emergency exemptions. [Reserved]

(c) Tolerances with regional registrations. [Reserved]

(d) Indirect or inadvertent residues. [Reserved]

PART 185—[AMENDED]

2. In part 185:

a. The authority citation for part 185 continues to read as follows:

Authority: 21 U.S.C. 346a and 348.

§§ 185.250, 185.1900, 185.2600, 185.2850, 185.4000, 185.4100, 185.5150, and 185.7000 [Removed]

b. Sections 185.250, 185.1900, 185.2600, 185.2850, 185.4000, 185.4100, 185.5150, and 185.7000 are removed.

PART 186—[AMENDED]

3. In part 186:

a. The authority citation for part 186 continues to read as follows:

Authority: 21 U.S.C. 342, 348, and 371.

§§ 186.550, 186.950, 186.2000, 186.2050, 186.2100, 186.3325, 186.3400, 186.3850, 186.4575, 186.4975, 186.5600, 186.5700, 186.5800, and 186.5850 [Removed]

b. Sections 186.550, 186.950, 186.2000, 186.2050, 186.2100, 186.3325, 186.3400, 186.3850, 186.4575, 186.4975, 186.5600, 186.5700, 186.5800, and 186.5850 are removed.

[FR Doc. 00-12958 Filed 5-23-00; 8:45 am]

BILLING CODE 6560-50-F